DEPARTMENT OF COMMERCE

National Oceanic and Atmospheric Administration

[I.D. 052102F]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Socioeconomic Panel (SEP).

DATES: A meeting of the SEP will be held beginning at 8:30 a.m. on Wednesday, June 12, 2002, and will conclude at 4 p.m. on Friday, June 14, 2002.

ADDRESSES: The meeting will be held at the Wyndham Riverfront Hotel, 701 Convention Center Boulevard, New Orleans, LA; telephone: 504-524-8200.

Council address: Gulf of Mexico Fishery Management Council, 3018 U.S. Highway 301 North, Suite 1000, Tampa, FL 33619.

FOR FURTHER INFORMATION CONTACT: Antonio B. Lamberte, Economist; telephone: 813-228-2815.

SUPPLEMENTARY INFORMATION: The SEP will meet to review available social and economic information on Gulf king and Spanish mackerel and to determine the social and economic implications of the levels of acceptable biological catch (ABC) recommended by the Council's Mackerel Stock Assessment Panel (MSAP). The SEP may recommend to the Council total allowable catch (TAC) levels for the 2003 fishing year and certain management measures associated with achieving the TACs. In addition, the SEP will review the results of a bioeconomic modeling evaluation of the measures proposed in the Secretarial amendment for rebuilding the red grouper stock.

A report will be prepared by the SEP containing their conclusions and recommendations. The red grouper part of the report will be presented for review to the Council's Reef Fish Advisory Panel and Standing and Special Reef Fish Scientific and Statistical Committee at meetings to be held on the week of June 24, 2002 in Tampa, FL and to the Council at its meeting on the week of July 8, 2002 in Sarasota, FL. The mackerel portion of the report will be presented for review to the Council's Mackerel Advisory Panel and Standing and Special Mackerel Scientific and Statistical Committee at meetings to be held on the week of July 29, 2002 in New Orleans, LA and to the Council at its meeting on the week of September 9, 2002 in Metairie, LA.

Composing the SEP membership are economists, sociologists, and anthropologists from various universities and state fishery agencies throughout the Gulf. They advise the Council on the social and economic implications of certain fishery management measures.

A copy of the agenda can be obtained by calling 813-228-2815.

Although other non-emergency issues not on the agenda may come before the SEP for discussion, in accordance with the Magnuson-Stevens Fishery Conservation and Management Act, those issues may not be the subject of formal action during this meeting. Actions of the SEP will be restricted to those issues specifically identified in the agendas and any issues arising after publication of this notice that require emergency action under Section 305(c) of the Magnuson-Stevens Act, provided the public has been notified of the Council's intent to take action to address the emergency.

Special Accommodations

The meeting is open to the public and is physically accessible to people with disabilities. Requests for sign language interpretation or other auxiliary aids should be directed to the Council office (see ADDRESSES) by June 5, 2002.

Dated: May 23, 2002.
Richard W. Surdi,
Acting Director, Office of Sustainable Fisheries, National Marine Fisheries Service.

[FR Doc. 02-13405 Filed 5-28-02; 8:45 am]

BILLING CODE 3510-22-S